NEIGHBORHOOD REINVESTMENT CORPORATION

Sunshine Act Meetings; Regular Board of Directors Meeting

TIME & DATE: 2:00 p.m., Thursday, February 20, 2020.

PLACE: NeighborWorks America—Gramlich Boardroom, 999 North Capitol Street NE, Washington, DC 20002.

STATUS: Open (with the exception of Executive Session).

MATTERS TO BE CONSIDERED: The General Counsel of the Corporation has certified that in his opinion, one or more of the exemptions set forth in 5 U.S.C. 552(b)(2) and (4) permit closure of the following portion(s) of this meeting:

• Report from CEO

Agenda

I. Call to Order

II. Welcome Susan Ifill, COO

III. Approval of Minutes

IV. Executive Session: External Audit Presentation

V. Executive Session: Report from CEO

VI. Action Item Audit Committee Report

VII. Action Item FY20 Final Budget

VIII. Discussion Item Completion of FY19 Annual Ethics Review

IX. Discussion Item Governance Working Group Report

X. Management Program Background and Updates

XI. Adjournment

CONTACT PERSON FOR MORE INFORMATION: Rutledge Simmons, EVP & General Counsel/Secretary, (202) 760-4105; Rsimmons@nw.org.

Rutledge Simmons,
EVP & General Counsel/Corporate Secretary.

[FR Doc. 2020-02947 Filed 2-10-20; 4:15 pm]

BILLING CODE 7570-02-P